DEPARTMENT OF HOMELAND SECURITY

Coast Guard

46 CFR Parts 10, 11, 12, and 15

[Docket No. USCG-2011-0465]

Processing of Merchant Mariner Credentials for Those Mariners Not Requiring a Transportation Worker Identification Credential

AGENCY: Coast Guard, DHS.

ACTION: Notice of availability.

SUMMARY: The Coast Guard announces the availability of Policy Letter 11-15, which describes steps the Coast Guard is taking to implement a statutory change in mariner credentialing requirements. This policy letter details how the Coast Guard is relaxing its Transportation Worker Identification Credential (TWIC) enforcement posture for mariners who serve on board vessels that are not required to have a vessel security plan. It also describes policy changes to allow these mariners to acquire and renew a Merchant Mariner Credential (MMC) without holding a valid TWIC.

DATES: This policy is effective upon publication of this notice.

ADDRESSES: This notice and the policy are available in the docket and can be viewed by going to http://www.regulations.gov, inserting USCG-2011-0465 in the “Keyword” box, and then clicking “Search.” This material is also available for inspection or copying at the Docket management Facility (M-30), U.S. Department of Transportation, West Building Ground Floor, Room W12-140, 1200 New Jersey Avenue SE., Washington, DC 20590, between 9 a.m. and 5 p.m., Monday through Friday, except Federal Holidays. This policy is also available at http://homeport.uscg.mil by clicking the “Library” tab > Policy > Policy letters (inspection); CG-543 Policy Letter 11-15.

FOR FURTHER INFORMATION CONTACT: If you have questions on this notice, call or email Mr. Luke Harden, Office of Vessel Activities (CG-543), (202) 372-1206, email Luke.B.Harden@uscg.mil. If you have questions on viewing or submitting material to the docket, call Renee V. Wright, Program Manager, Docket Operations, telephone (202) 366-9826.

SUPPLEMENTARY INFORMATION:

Background and Purpose

Coast Guard regulations require every applicant for an original or renewal of a Merchant Mariner Credential (MMC) obtain a Transportation Worker Identification Credential (TWIC) (see 46 CFR part 10). These Coast Guard regulations implement 46 U.S.C. 70105(b)(2)(B) and (D), which originally mandated that all mariners required to hold an MMC also obtain and hold a valid TWIC. On October 15, 2010, the President signed into law the Coast Guard Authorization Act of 2010 (the Act) (Pub. L. 111-281), which amended Sec. 70105(b)(2) by exempting certain mariners from the requirement to obtain and hold a valid TWIC (See Section 809 of the Act).

While Section 809 did not exclude any specific group of credentialed mariners from the requirement to possess a TWIC, it gave the Coast Guard discretion to exclude any mariner, who does not require unescorted access to a secure area of a vessel or facility, from that requirement (see 46 U.S.C. 70105). The Coast Guard has determined that, under Section 809 of the Act, mariners who do not need unescorted access to a secure area designated by a vessel security plan in accordance with reference (c), no longer require a TWIC.

Although full implementation of Section 809 of the Act may require regulatory changes, the Coast Guard is issuing Policy Letter 11-15 to implement two policy mechanisms that uses Coast Guard resources and capabilities to lessen the impact while working on a regulatory solution that will address the full scope of Section 809. First, because the Coast Guard enforces its regulations by checking the validity of TWICs while conducting inspections of vessels where the credentials of mariners are checked, the Coast Guard is altering its enforcement posture: excluded mariners will not be required to present a valid TWIC during Coast Guard inspections. Second, we are implementing policies that would make it easier for certain excluded mariners to renew or acquire an MMC, without having to show proof of holding a valid TWIC. Policy Letter 11-15 details procedures by which excluded mariners do not need to obtain a physical TWIC in order to receive an MMC, and mariners can renew an existing MMC even if their TWIC has expired.

We recognize that even after these policy changes many excluded mariners will continue to need or choose to go through the TWIC enrollment process. This is because the current MMC credentialing process requires inputs from the TWIC enrollment process. The Coast Guard relies on biometric and biographic information collected as part of the TWIC enrollment process, in the security, safety, and suitability evaluation component of Coast Guard's MMC credentialing process. It is not possible, at this time, to issue new MMCs without mariners going through the TWIC enrollment process. Separating the two processes would require a significant credentialing process and administration restructuring that is not feasible on a short timeline.

These policy changes, however, will help to reduce the fees mariners pay to obtain or renew a MMC, as well as reduce the burden of having to make multiple trips to a TWIC enrollment center to apply for and collect a TWIC. While we recognize that some mariners, particularly those applying for their original MMC, will still have to pay the TWIC enrollment fee, we believe that these policy changes will substantially reduce the regulatory burden on excluded mariners. The Coast Guard is exploring the possibility of a regulatory change to waive some fees associated with the MMC for excluded mariners, to further reduce the burdens in the future.

List of Excluded Mariners

The list of excluded mariners subject to the adjusted enforcement and credentialing policies detailed in Policy Letter 11-15 is limited to those mariners who function solely in the following roles:

1. Mariners serving on uninspected passenger vessels of less than 100 gross register tons (GRT);

2. Mariners serving on vessels inspected under subchapter T of Title 46 Code of Federal Regulations, except those on international voyages;

3. Mariners serving on towing vessels not involved in towing barges inspected under 46 CFR subchapters D, I or O;

4. Mariners serving on towing vessels involved in fleeting, docking, or ship assist as excepted in Title 33 CFR, Section 104.105(a)(11); and

5. Mariners who are inactive, or not operating under the authority of their credential for long periods of time.

This notice is issued under authority of 46 U.S.C. 70105, 33 CFR parts 104 and 105, 46 CFR parts 10, 11, and 15, 5 U.S.C. 552(a).

Dated: December 19, 2011.
Paul F. Thomas,
Captain, U.S. Coast Guard, Acting Director of Prevention Policy.

[FR Doc. 2011-32852 Filed 12-20-11; 11:15 am]

BILLING CODE 9110-04-P